DEPARTMENT OF HOMELAND SECURITY

Coast Guard

[USCG-2007-27451]

National Boating Safety Advisory Council

AGENCY: Coast Guard, DHS.

ACTION: Notice of meetings.

SUMMARY: The National Boating Safety Advisory Council (NBSAC) and its subcommittees on boats and associated equipment, prevention through people, and recreational boating safety strategic planning will meet to discuss issues relating to recreational boating safety. All meetings will be open to the public.

DATES: NBSAC will meet on Saturday, April 21, 2007, from 8 a.m. to 12:30 p.m., and on Monday, April 23, 2007, from 8 a.m. to 3:30 p.m. The Prevention through People Subcommittee will meet on Saturday, April 21, 2007, from 1:30 p.m. to 4:30 p.m. The Recreational Boating Safety Strategic Planning Subcommittee will meet on Sunday, April 22, 2007, from 8 a.m. to 12 p.m. The Boats and Associated Equipment Subcommittee will meet on Sunday, April 22, 2007, from 1 p.m. to 4:30 p.m. These meetings may close early if all business is finished. On Sunday, April 22, 2007, a subcommittee meeting may start earlier if the preceding subcommittee meeting closed early.

ADDRESSES: NBSAC will meet at the Grand River Center, 500 Bell St, Dubuque, IA 52001. The subcommittee meetings will be held at the same address. Send written material and requests to make oral presentations to Mr. Jeff Ludwig, Executive Secretary of NBSAC, Commandant (CG-3PCB-1), U.S. Coast Guard Headquarters, 2100 Second Street SW., Washington, DC 20593-0001. This notice is available on the Internet at http://dms.dot.gov or the Office of Boating Safety's Web site at http://www.uscgboating.org/nbsac/nbsac.htm.

FOR FURTHER INFORMATION CONTACT: Jeff Ludwig, Executive Secretary of NBSAC, telephone 202-372-1061, fax 202-372-1932.

SUPPLEMENTARY INFORMATION: Notice of these meetings is given under the Federal Advisory Committee Act, 5 U.S.C. App. 2.

Tentative Agendas of Meetings:

National Boating Safety Advisory Council (NBSAC):

(1) Remarks—Mr. James P. Muldoon, NBSAC Chairman; Rear Admiral Brian Salerno, Director of Inspections & Compliance.

(2) Swearing in of recent appointees (includes new members and continued members).

(3) Chief, Office of Boating Safety update on NBSAC Resolutions and Recreational Boating Safety Program report.

(4) Executive Director's report.

(5) Chairman's session.

(6) TSAC Liaison's report.

(7) NAVSAC Liaison's report.

(8) Coast Guard Auxiliary report.

(9) National Association of State Boating Law Administrators report.

(10) Update on development of Vessel Identification System.

(11) Report on upcoming national boating survey.

(12) Prevention Through People Subcommittee report.

(13) Boats and Associated Equipment Subcommittee report.

(14) Recreational Boating Safety Strategic Planning Subcommittee report.

A more detailed agenda can be found at http://www.uscgboating.org/nbsac/nbsac.htm, after April 3, 2007.

Prevention Through People Subcommittee: Discuss current regulatory projects, grants, contracts, and new issues affecting the prevention of boating accidents through outreach and education of boaters.

Boats and Associated Equipment Subcommittee: Discuss current regulatory projects, grants, contracts, and new issues affecting boats and associated equipment.

Recreational Boating Safety Strategic Planning Subcommittee: Discuss current status of the strategic planning process and any new issues or factors that could impact, or contribute to, the development of the strategic plan for the recreational boating safety program.

Procedural: All meetings are open to the public. At the Chairs' discretion, members of the public may make oral presentations during the meetings. If you would like to make an oral presentation at a meeting, please notify the Executive Secretary of your request no later than Friday, March 30, 2007. Written material for distribution at a meeting should reach the Coast Guard no later than Thursday, April 5, 2007. If you would like a copy of your material distributed to each member of the committee or subcommittee in advance of a meeting, please submit 30 copies to the Executive Director no later than Thursday, April 5, 2007.

Information on Services for Individuals with Disabilities: For information on facilities or services for individuals with disabilities or to request special assistance at the meetings, contact the Executive Secretary of NBSAC as soon as possible.

Dated: March 7, 2007.
Brian M. Salerno,
Rear Admiral, U.S. Coast Guard, Director of Inspections and Compliance.

[FR Doc. E7-4586 Filed 3-13-07; 8:45 am]

BILLING CODE 4910-15-P